Title 3—

The President

Proclamation 10205 of May 7, 2021

National Hurricane Preparedness Week, 2021

By the President of the United States of America

A Proclamation

In 2020, the United States experienced a record year for extreme weather, with an unprecedented 30 named storms in the Atlantic Basin alone. Twelve of these storms, six of which were hurricanes, made landfall in the United States. These storms and hurricanes unleashed their devastating power on the individuals and communities in their paths. Their frequency and impact also highlight the existential threat posed to our Nation by climate change. During National Hurricane Preparedness Week, we encourage all Americans living in potentially affected areas to take precautions to ensure that they, their families, and their communities are best prepared for hurricanes, and commit to improving our resilience to climate-related catastrophes.

The costs exacted by these storms, in lives, livelihoods, and property damage, are staggering. Seven of last year's 30 named storms claimed 86 lives and caused $40 billion dollars in damage. Over the past two decades, tropical storms and hurricanes have taken over 6,000 lives in the United States and caused $853 billion in damage. These storms accounted for 60 percent of the costs of our most damaging weather events. In addition to the highly-visible damage, hurricanes also exact an unseen and long-lasting emotional toll; the trauma of a lost loved one, the sadness of losing treasured possessions, the stress of a financial setback. This is compounded for low-income communities and communities of color who are more likely to live in areas that make them vulnerable to flooding and other climate-related weather events, and less likely to have the funds to prepare for and recover from extreme weather events.

As changes in our climate lead to additional extreme weather events, we must pursue research and resilience policies that keep us safe and strengthen our resilience.

Since taking office, I have directed my Administration to put the climate crisis and the communities most vulnerable to it at the center of our domestic and foreign policy. This includes investing in weather forecasting and climate research to bolster our understanding of how our changing climate is altering the behavior of hurricanes, as well as ensuring every community has the resources to prepare for and respond to these changing storms. Although hurricanes cannot be prevented, we can predict and prepare for them.

We are constantly improving our forecasts and communications with the public about the dangers posed by hurricanes. National Oceanic and Atmospheric Administration (NOAA) forecasters work around the clock and collaborate with State, local, Tribal, and territorial emergency managers and government officials to provide actionable information before, during, and after a hurricane. NOAA also collaborates with key decision makers in Federal agencies, including the Department of Homeland Security and the Federal Emergency Management Agency (FEMA). Such collaborative work ensures that communities standing in a storm's path have the information and resources they need to adequately prepare. After the storm, NOAA provides stakeholders with essential information for damage assessments and to re-open ports and coastal waterways critical to our Nation's commerce.

In addition to work being done by Federal, State, local, and Tribal governments, Americans should prepare themselves before a hurricane hits. Keep up with weather forecasts and have an evacuation kit prepared in case you ever need to relocate in advance of a hurricane. More information and preparedness plan templates are available from FEMA's ready.gov website.

Everyone has a role to play in hurricane preparedness and making us a Weather-Ready Nation. When hurricanes strike, that's how we will save lives, lessen the damage to our homes, communities, and infrastructure, and recover stronger and faster.

NOW, THEREFORE, I, JOSEPH R. BIDEN JR., President of the United States of America, by virtue of the authority vested in me by the Constitution and the laws of the United States, do hereby proclaim May 9 through May 15, 2021, as National Hurricane Preparedness Week. I urge all Americans to help build our Weather-Ready Nation, so that individuals are empowered and organizations can fulfill leadership roles in their communities. I call on our Federal, State, Tribal, territorial and local government agencies to share information that will protect lives and property.

IN WITNESS WHEREOF, I have hereunto set my hand this seventh day of May, in the year of our Lord two thousand twenty-one, and of the Independence of the United States of America the two hundred and forty-fifth.

[FR Doc. 2021-10128

Filed 5-11-21; 8:45 am]

Billing code 3295-F1-P